DEPARTMENT OF TRANSPORTATION

Office of the Secretary

Notice of Applications for Certificates of Public Convenience and Necessity and Foreign Air Carrier Permits Filed Under Subpart B (Formerly Subpart Q) During the Week Ending March 29, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0038.

Date Filed: March 25, 2014.

Due Date for Answers, Conforming Applications, or Motion to Modify Scope: April 15, 2014.

Description: Application of Grossmann Jet Service spol. s.r.o. requesting a foreign air carrier permit and corresponding exemption authority to the full extent authorized by the Air Transport Agreement by the United States and the European Community and its Member States to enable it to engage in: (i) Foreign charter air transportation of persons, property and mail from any point or points behind any Member State of the European Union via any point or points in any Member State and via intermediate points to any point or points in the United States and beyond; (ii) foreign charter air transportation of persons, property and mail between any point or points in the United States and any point or points in any member of the European Common Aviation Area (“ECAA”); (iii) other charters; and (iv) transportation authorized by any additional route rights made available to European Community carriers in the future.

Docket Number: DOT-OST-2014-0041.

Date Filed: March 28, 2014.

Due Date for Answers, Conforming Applications, or Motion to Modify Scope: April 18, 2014.

Description: Application of Qatar Executive requesting a foreign air carrier permit and related exemption that would enable it to provide charter foreign air transportation of persons, property and mail between any point or points in Qatar and any point or points in the United States; and between any point or points in the United States and any point or points in a third country or countries, provided that, except with respect to cargo charters, such service constitutes part of a continuous operation, with or without a change of aircraft, that includes service to Qatar for the purposes of carrying local traffic between Qatar and the U.S.

Barbara J. Hairston,
Supervisory Dockets Officer, Docket Operations, Federal Register Liaison.

[FR Doc. 2014-08068 Filed 4-9-14; 8:45 am]

BILLING CODE 4910-9X-P